DEPARTMENT OF HEALTH AND HUMAN SERVICES

Centers for Medicare and Medicaid Services

[Document Identifier: CMS-10003, CMS-2728, and CMS-R-39]

Agency Information Collection Activities: Submission for OMB Review; Comment Request

Agency: Centers for Medicare and Medicaid Services, HHS.

In compliance with the requirement of section 3506(c)(2)(A) of the Paperwork Reduction Act of 1995, the Centers for Medicare and Medicaid Services (CMS) (formerly known as the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicare+Choice Appeals Notices, “Notice of Denial of Medical Coverage”, “Notice of Denial Payment'; Form No.: CMS-10003 (OMB# 0938-0829); Use: Section 1852(g)(1)(B) requires M+C organizations to provide determinations to deny coverage (i.e., medical services or payment) in writing and include a statement in understandable language of the reasons for the denial and a description of the reconsideration and appeals processes. These notices fulfill the statutory requirement.; Frequency: On occasion and other: distribution; Affected Public: Individuals or households, business or other for-profit, not-for-profit institutions; Number of Respondents: 211; Total Annual Responses: 71,200; Total Annual Hours: 7,120.

2. Type of Information Collection Request: Revision of a currently approved collection; Title of Information Collection: End Stage Renal Disease Medical Evidence Report Medicare Entitlement and/or Patient Registration and Supporting Regulations in 42 CFR 405.2133; Form No.: CMS-2728 (OMB# 0938-0046); Use: This form captures the necessary medical information required to determine Medicare eligibility of an end stage renal disease claimant. It also captures the specific medical data required for research and policy decisions on this population as required by law.; Frequency: weekly, monthly, quarterly, semi-annually and annually; Affected Public: Individuals or households, business or other for-profit, not-for-profit institutions; Number of Respondents: 100,000; Total Annual Responses: 100,000; Total Annual Hours: 75,000.

3. Type of Information Collection Request: Extension of a currently approved collection; Title of Information Collection: Home health Medicare Conditions of Participation (CoP) Information Collection Requirements and Supporting Regulations in 42 CFR 484.10, 484.12, 484.14, 484.16, 484.18, 484.36, 484.48, and 484.52; Form No.: CMS-R-39 (OMB# 0938-0365); Use: 42 CFR part 484 outlines Home Health Agency Medicare CoP to ensure HHAs meet the Federal patient health and safety regulations; Frequency: Annually; Affected Public: Business or other for-profit, not-for-profit institutions, Federal government, and State, local or tribal government; Number of Respondents: 7,422; Total Annual Responses: 7,422; Total Annual Hours: 854,891.

To obtain copies of the supporting statement and any related forms for the proposed paperwork collections referenced above, access CMS Web site address at http://cms.hhs.gov/regulations/pra/default.asp, or e-mail your request, including your address, phone number, OMB number, and CMS document identifier, to Paperwork@hcfa.gov, or call the Reports Clearance Office on (410) 786-1326. Written comments and recommendations for the proposed information collections must be mailed within 30 days of this notice directly to the OMB desk officer: OMB Human Resources and Housing Branch, Attention: Brenda Aguilar, New Executive Office Building, Room 10235, Washington, DC 20503; Fax (202)395-6929.

Dated: March 4, 2004.
John P. Burke, III,
Paperwork Reduction Act Team Leader, CMS Reports Clearance Officer, Office of Strategic Operations and Strategic Affairs, Division of Regulations Development and Issuances.

[FR Doc. 04-5412 Filed 3-10-04; 8:45 am]

BILLING CODE 4120-03-P